DEPARTMENT OF COMMERCE

Foreign-Trade Zones Board

[Order No. 1888]

Reorganization and Expansion of Foreign-Trade Zone 200 Under Alternative Site Framework; County of Mercer, New Jersey

Pursuant to its authority under the Foreign-Trade Zones Act of June 18, 1934, as amended (19 U.S.C. 81a-81u), the Foreign-Trade Zones Board (the Board) adopts the following Order:

Whereas, the Board adopted the alternative site framework (ASF) (74 FR 1170-1173, 01/12/2009; correction 74 FR 3987, 01/22/2009; 75 FR 71069-71070, 11/22/2010) as an option for the establishment or reorganization of general-purpose zones;

Whereas, the County of Mercer, grantee of Foreign-Trade Zone 200, submitted an application to the Board (FTZ Docket 30-2012, filed 04/12/12) for authority to reorganize under the ASF with a service area of the County of Mercer, adjacent to the Philadelphia Customs and Border Protection port of entry; FTZ 200's Site 1 would be categorized as a magnet site; acreage would be removed from Site 4; and Sites 4 and 8 would be categorized as usage-driven sites;

Whereas, notice inviting public comment was given in the Federal Register (77 FR 23221-23222, 04/18/12) and the application has been processed pursuant to the FTZ Act and the Board's regulations; and,

Whereas, the Board adopts the findings and recommendations of the examiner's report, and finds that the requirements of the FTZ Act and the Board's regulations are satisfied;

Now, therefore, the Board hereby orders:

The application to reorganize and expand FTZ 200 under the alternative site framework is approved, subject to the FTZ Act and the Board's regulations, including Section 400.13, to the Board's standard 2,000-acre activation limit for the zone, and to a three-year ASF sunset provision for usage-driven sites that would terminate authority for Sites 4 and 8 if no foreign status merchandise is admitted for a bona fide customs purpose by March 31, 2016.

Signed at Washington, DC, this 5th day of March 2013.
Paul Piquado,
Assistant Secretary of Commerce for Import Administration, Alternate Chairman, Foreign-Trade Zones Board.
ATTEST:
Andrew McGilvray,
Executive Secretary.

[FR Doc. 2013-06940 Filed 3-25-13; 8:45 am]

BILLING CODE 3510-DS-P